FEDERAL ELECTION COMMISSION

11 CFR Part 110

[Notice 2003-7]

Administrative Fines: Correction

AGENCY: Federal Election Commission.

ACTION: Final rule; correction.

SUMMARY: This document contains a correction to the final rules governing the Administrative Fines program that were published in the Federal Register on March 17, 2003. The correction relates to a technical amendment updating a citation to the Federal Claims Collection Standards.

DATES: The correction is effective March 17, 2003.

FOR FURTHER INFORMATION CONTACT: Ms. Mai T. Dinh, Acting Assistant General Counsel or Dawn M. Odrowski, Attorney, 999 E Street, NW., Washington, DC 20463, (202) 694-1650 or (800) 424-9530.

SUPPLEMENTARY INFORMATION: On March 17, 2003, the Federal Election Commission published in the Federal Register final rules governing the Administrative Fines program. See Administrative Fines; final rules, 68 FR 12572 (March 17, 2003). These final rules included a technical amendment to 11 CFR 111.45 to correct a citation to the Federal Claims Collection Standards (“the Standards”) in response to the revision and recodification of the Standards after the original Administrative Fines regulations were published in May 2000. In the March 17, 2003, Federal Register publication, instruction number 4 incorrectly identified “General Accounting Office” rather than “Government Accounting Office” as the language that is removed from 11 CFR 111.45.

Correction of Publication

Accordingly, the publication of final regulations that were the subject of FR Doc. 2003-6, published on March 17, 2003 (68 FR 12572), is corrected as follows:

PART 111—COMPLIANCE PROCEDURES (2 U.S.C. 437g, 437d(a))

On page 12580, column 1, correct instruction number 4 to read as follows:

§ 111.45 [Corrected]

“4. Section 111.45 is amended by removing in the second sentence the phrase, ‘4 CFR parts 101 through 105’ and by adding in its place, ‘31 CFR parts 900 through 904,’ and by removing in the second sentence the phrase, ‘Government Accounting Office’ and adding in its place, ‘U.S. Department of the Treasury.’ ”

Dated: April 1, 2003.
Ellen L. Weintraub,
Chair, Federal Election Commission.

[FR Doc. 03-8307 Filed 4-4-03; 8:45 am]

BILLING CODE 6715-01-P